DEPARTMENT OF LABOR

Employment and Training Administration

[TA-W-62,254]

Accudata, Carlinville, IL; Notice of Termination of Investigation

Pursuant to Section 221 of the Trade Act of 1974, as amended, an investigation was initiated on October 4, 2007 in response to a worker petition filed by a community representative on behalf of workers at Accudata, Carlinville, Illinois.

The petitioner has requested that the petition be withdrawn. Consequently, the investigation has been terminated.

Signed at Washington, DC this 9th day of October, 2007.
Richard Church
Certifying Officer, Division of Trade Adjustment Assistance.

[FR Doc. E7-20398 Filed 10-16-07; 8:45 am]

BILLING CODE 4510-FN-P